DEPARTMENT OF JUSTICE

Notice of Lodging of Proposed Consent Decree Under the Clean Air Act

On May 19, 2015, the Department of Justice lodged a proposed Consent Decree with the United States District Court for the Eastern District of Michigan in the lawsuit entitled United States and Michigan Department of Environmental Quality v. AK Steel Corporation, Civil Action No. 15-11804.

The United States filed this lawsuit under the Clean Air Act (CAA), naming AK Steel Corporation as the defendant. The complaint seeks injunctive relief and civil penalties for violations of the environmental regulations that govern iron and steel mills and the emission of particulate matter from certain sources at defendant's iron and steel mill in Dearborn, Wayne County, Michigan. The Michigan Department of Environmental Quality (MDEQ) joined the complaint as a co-plaintiff asserting the same claims under equivalent state laws and regulations. Under the proposed consent decree, AK Steel agrees to implement procedures to improve future compliance with the CAA and State regulations, and pay a total of $1,353,126 in civil penalties, to be divided equally between the United States and MDEQ. Under the proposed consent decree, AK Steel also agrees to fund the installation of air filtration systems at nearby public schools. In return, the United States and MDEQ agree not to sue the defendant under section 113 of the CAA related to its past violations.

The publication of this notice opens a period for public comment on the proposed Consent Decree. Comments should be addressed to the Assistant Attorney General, Environment and Natural Resources Division, and should refer to United States and MDEQ v. AK Steel Corp., D.J. Ref. No. 90-5-2-1-10702. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $14.00 (25 cents per page reproduction cost) payable to the United States Treasury.

Randall M. Stone,
Acting Assistant Section Chief, Environmental Enforcement Section, Environment and Natural Resources Division.

[FR Doc. 2015-12583 Filed 5-22-15; 8:45 am]

BILLING CODE 4410-15-P